DEPARTMENT OF AGRICULTURE

Forest Service

Klamath Provincial Advisory Committee (PAC)

AGENCY: Forest Service, USDA.

ACTION: Notice of meeting.

SUMMARY: The Klamath Provincial Advisory Committee will meet on March 17-18 at the Shasta-Trinity National Forest Supervisor's Office, 3644 Avtech Parkway, Redding, CA 96002. The meeting will start at 1 p.m. and adjourn at 5 p.m. on March 17, and start at 8 a.m. and adjourn at 12 noon on March 18. Agenda items for the meeting include: (1) Discussion on topics of general interest to the PAC (selection of new member, issue development process); (2) Salvage Harvest After Wildfire Recommendations; (3) Salvage Sale Opportunities; and (4) Public Comment Periods. All Provincial Advisory Committee meetings are open to the public. Interested citizens are encouraged to attend.

FOR FURTHER INFORMATION CONTACT: Jan Ford, USDA, Klamath National Forest, 1312 Fairlane Road, Yreka, California 96097; telephone 530-841-4483 (voice), TDD 530-841-4573.

Dated: February 27, 2004.
Margaret J. Boland,
Designated Federal Official, Klamath PAC.

[FR Doc. 04-5056 Filed 3-4-04; 8:45 am]

BILLING CODE 3410-11-M